DEPARTMENT OF LABOR

Office of the Secretary of Labor

29 CFR Part 22

Occupational Safety and Health Administration

29 CFR Part 1986

RIN 1290-AA28

Rules of Practice and Procedure Concerning Filing and Service and Amended Rules Concerning Filing and Service; Correction

AGENCY: Employment and Training Administration, Office of Workers' Compensation Programs, Office of the Secretary, Office of Labor-Management Standards, Wage and Hour Division, Occupational Safety and Health Administration, Office of Federal Contract Compliance Programs.

ACTION: Direct final rule; correction.

SUMMARY: The Department of Labor (Department or DOL) is correcting a direct final rule that appeared in the Federal Register on January 11, 2021, “Rules of Practice and Procedure Concerning Filing and Service and Amended Rules Concerning Filing and Service.” The companion proposed rule to the final rule was published in the same issue of the Federal Register. The final rule required electronic filing (e-filing) and made acceptance of electronic service (e-service) automatic for attorneys and non-attorney representatives representing parties in proceedings before the Administrative Review Board, unless the Board authorized non-electronic filing and service for good cause. Among other changes, the final rule was intended to revise several sections of the Code of Federal Regulations. However, the final rule as published inadvertently omitted amendatory instructions to revise two section headings, despite providing revised language for those headings. This document provides the omitted amendatory instructions to ensure that these two section headings are revised as written in the final rule.

DATES: This correction is effective on February 25, 2021, unless the Department receives a significant adverse comment to the underlying direct final rule or its companion proposed rule by February 10, 2021 that explains why the rule is inappropriate.

FOR FURTHER INFORMATION CONTACT: Mr. Thomas Shepherd, Clerk of the Appellate Boards, at 202-693-6319 or Shepherd.Thomas@dol.gov.

SUPPLEMENTARY INFORMATION: DOL is making the following corrections to the final rule, as published in the Federal Register on Monday, January 11, 2021 (86 FR 1772).

DOL is adding amendatory instructions to change the section headings of two sections of the Code of Federal Regulations.

At 86 FR 1781, third column, 29 CFR part 22, amendatory instruction 43 revised § 22.39, paragraphs (a), (b)(3), (c), (f), and (h) through (l). The text of § 22.39 as written in the final rule also included a revised section heading; however, amendatory instruction 43 did not specify that the section heading should be revised in addition to the text of the above-listed paragraphs. In this action, amendatory instruction 43 is corrected to clarify that the section heading of § 22.39 should be revised as well. Amendatory instruction 43 is corrected to read: “43. In § 22.39, revise the section heading and paragraphs (a), (b)(3), (c), (f), and (h) through (l) to read as follows:”. The section heading is being revised to read “Appeal to ARB” instead of “Appeal to authority head.” This change is in keeping with the Department's clearly expressed intent in the preamble of the final rule to revise references in the regulations to an “authority head” to references to the “ARB” in order to clarify the responsibilities of the Administrative Review Board.

At 86 FR 1793, third column, 29 CFR part 1986, amendatory instruction 133 revised § 1986.110, paragraph (c). The text of § 1986.110 as written in the final rule also included a revised section heading; however, amendatory instruction 133 did not specify that the section heading should be revised in addition to the text of paragraph (c). In this action, amendatory instruction 133 is corrected to clarify that the section heading of § 1986.110 should be revised, as well. Amendatory instruction 133 is corrected to read: “133. In § 1986.110, revise the section heading and paragraph (c) to read as follows:”. The section heading is being revised to read “Decision and orders of the Administrative Review Board” instead of “Decisions and order of the Administrative Review Board.” The change to § 1986.110 is intended to make the section heading consistent with other similar section headings in the chapter of Title 29 that are titled “Decision and orders of the Administrative Review Board.”

Federal Register Correction

In the final rule published at 86 FR 1772 in the issue of January 11, 2021, the following corrections are made:

PART 22—PROGRAM FRAUD CIVIL REMEDIES ACT OF 1986

§ 22.39 [Corrected]

1. On page 1781, in the third column, correct amendatory instruction 43 to read: “43. In § 22.39, revise the section heading and paragraphs (a), (b)(3), (c), (f), and (h) through (l) to read as follows:”.

PART 1986—PROCEDURES FOR THE HANDLING OF RETALIATION COMPLAINTS UNDER THE EMPLOYEE PROTECTION PROVISION OF THE SEAMAN'S PROTECTION ACT (SPA), AS AMENDED

§ 1986.110 [Corrected]

2. On page 1793, in the third column, correct amendatory instruction 133 to read: “133. In § 1986.110, revise the section heading and paragraph (c) to read as follows:”.

Dated: February 3, 2021.
Milton A. Stewart,
Acting Secretary of Labor.

[FR Doc. 2021-02564 Filed 2-8-21; 8:45 am]

BILLING CODE 4510-HW-P